FEDERAL COMMUNICATIONS COMMISSION

[OMB 3060-0850]

Information Collection Approved by the Office of Management and Budget (OMB)

AGENCY: Federal Communications Commission.

ACTION: Notice.

SUMMARY: The Federal Communications Commission (FCC) has received Office of Management and Budget (OMB) approval for a revision of a currently approved public information collection pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Cathy Williams, Office of the Managing Director, at (202) 418-2918, or email: Cathy.Williams@fcc.gov.

SUPPLEMENTARY INFORMATION: The total annual reporting burdens and costs for the respondents are as follows:

OMB Control Number: 3060-0850.

OMB Approval Date: July 18, 2017.

OMB Expiration Date: July 31, 2020.

Title: Quick-Form Application for Authorization in the Ship, Aircraft, Amateur, Restricted and Commercial Operator, and General Mobile Radio Services, FCC Form 605.

Form No.: FCC Form 605.

Respondents: Individuals and Households, Business or Other For-Profit Entities; Not-For-Profit Institutions; State, Local or Tribal Governments.

Number of Respondents and Responses: 130,000 respondents and 130,000 responses.

Estimated Time per Response: 0.17 hours-0.44 hours.

Frequency of Response: On occasion reporting requirement; third party disclosure requirement, recordkeeping & other (5 & 10 years).

Obligation to Respond: Required to obtain or retain benefits. The statutory authority for this collection is contained in 47 CFR 1.913(a)(4).

Total Annual Burden: 57,218 hours.

Total Annual Cost: $ 2,676,700.

Nature and Extent of Confidentiality: In general there is no need for confidentiality. The Commission is required to withhold from disclosure certain information about the individual such as date of birth or telephone number. FCC 605 application is a consolidated application form for Ship, Aircraft, Amateur, Restricted and Commercial Radio Operators, and General Mobile Radio Services and is used to collect licensing data for the Universal Licensing System. The Commission is requesting OMB approval for an extension (no change in the reporting, recordkeeping and/or third party disclosure requirements). The Commission is making minor clarifications to the instructions on the main form and schedule B as well as a clarification to Item 3 on the main form. 4 The data collected on this form includes the Date of Birth for Commercial Operator licensees however this information will be redacted from public view.

Privacy Impact Assessment: Yes.

Needs and Uses: The FCC uses the information in FCC Form 605 to determine whether the applicant is legally, technically, and financially qualified to obtain a license. Without such information, the Commission cannot determine whether to issue the licenses to the applicants that provide telecommunication services to the public, and therefore, to fulfill its statutory responsibilities in accordance with the Communications Act of 1934, as amended. The Commission is revising the basic qualifications section of the form to include a question regarding whether an application has been convicted of a felony in any state or federal court. Applicants, answering yes must provide an explanation. This item enables the FCC to determine whether an Applicant is eligible under §§ 310(d) and 308(b) of the Communications Act of 1934, as amended, to hold or have ownership interest in a station license. In addition we are seeking approval to change the ship application form require the applicant provide the official ship number. Coast Guard requests we change this question from optional to required. Obtaining the ship number is the only way to reliably link a license to a specific vessel. The Information provided on this form will also be used to update the database and to provide for proper use of the frequency spectrum as well as enforcement purposes.

Federal Communications Commission.
Marlene H. Dortch,
Secretary, Office of the Secretary.

[FR Doc. 2017-17394 Filed 8-16-17; 8:45 am]

BILLING CODE P6712-01-P